DEPARTMENT OF THE INTERIOR

Fish and Wildlife Service

Receipt of Application for an Incidental Take Permit by Culebra Northshore, S.E. for Development of a Residential Project in Culebra, PR

AGENCY: Fish and Wildlife Service.

ACTION: Notice.

SUMMARY: Culebra Northshore, S.E. (Applicant), seeks an incidental take permit (ITP) from the Fish and Wildlife Service (Service), pursuant to section 10(a)(1)(B) of the Endangered Species Act of 1973 (Act), as amended. The ITP would authorize incidental take of hatchlings from two nests of the leatherback sea turtle (Dermochelys coriacea) or the hawksbill sea turtle (Eretmochelys imbricata), both endangered species, on Tortola Beach for a period of twelve (12) years. The proposed taking is incidental to lighting and other activities associated with the development and occupation of a single-family residential project on a 66.80-“cuerda” (64.8-acre) lot adjacent to Tortola Beach, Culebra, Puerto Rico (Project). Nest surveys on this beach indicate that both sea turtle species use the beach for nesting, although in very low numbers. The Applicant's Habitat Conservation Plan (HCP) describes the mitigation and minimization measures proposed to address the effects of the Project to the protected species. These measures are outlined in the SUPPLEMENTARY INFORMATION section below. The Service has determined that the Applicant's proposal, including the proposed mitigation and minimization measures, will individually and cumulatively have a minor or negligible effect on the species covered in the HCP. Therefore, the ITP is a “low effect” project and would qualify as a categorical exclusion under the National Environmental Policy Act (NEPA), as provided by the Department of Interior Manual (516 DM2, Appendix 1 and 516 DM 6, Appendix 1).

The Service also announces the availability of the HCP and our determination of Categorical Exclusion for the incidental take application. Copies of the HCP and Service supporting documents may be obtained by making a request to the Regional Office (see ADDRESSES). Requests must be in writing to be processed. This notice is provided pursuant to Section 10 of the Endangered Species Act and NEPA regulations (40 CFR 1506.6).

The Service specifically requests information, views, and opinions from the public via this notice on the Federal action. Further, the Service specifically solicits information regarding the adequacy of the HCP as measured against the Service's Permit issuance criteria found in 50 CFR parts 13 and 17.

If you wish to comment, you may submit comments by any one of several methods. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the permit application, supporting documentation, and HCP should be sent to the Service's Regional Office (see ADDRESSES) and should be received on or before June 29, 2000.

ADDRESSES: Persons wishing to review the application, supporting documentation, and HCP may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, P.O. Box 491, Boquerón, Puerto Rico 00622. Written data or comments concerning the application, or HCP should be submitted to the Regional Office. Requests for the documentation must be in writing to be processed. Please reference permit number TE026114-0 in such comments, or in requests of the documents discussed herein.

FOR FURTHER INFORMATION CONTACT: Mr. David Dell, Regional Permit Coordinator, (see ADDRESSES above), telephone: 404/679-7313; or Ms. Marelisa Rivera, Fish and Wildlife Biologist, Boqueròn Field Office, (see ADDRESSES above), telephone 787/851-7297.

SUPPLEMENTARY INFORMATION: Nesting grounds of the leatherback sea turtle are distributed world-wide. In the Caribbean, the species nests in French Guiana, Surinam, Guyana, Colombia, Venezuela, Panama, and Costa Rica. In the U.S. Caribbean, nesting has been reported from St. Croix, St. Thomas, St. John, and Puerto Rico. The U.S. Caribbean may support nesting by 150 to 200 adult females per year, representing the most significant nesting activity of this species within the United States. The largest concentration of nesting leatherbacks in the U.S. Caribbean has been documented at Sandy Point National Wildlife Refuge, St. Croix, and Playa Brava and Playa Resaca on Culebra Island, Puerto Rico. Nesting females prefer high-energy beaches with deep and unobstructed access.

The hawksbill sea turtle is found throughout the world's tropical waters. However, nesting within United States territory occurs in Puerto Rico, the U.S. Virgin Islands, and very infrequently in Florida. Two important known nesting areas in the U.S. Caribbean are Mona Island in Puerto Rico and Buck Island Reef National Monument in St. Croix, U.S.Virgin Islands. The species nests on beaches all around the coast of Puerto Rico, but the area that receives the highest number of nesting activities is Mona Island, with approximately 500 nests per year.

Nesting hawksbill sea turtles prefer low energy sandy beaches with woody vegetation such as sea grape or saltshrub located within a few meters of the water line. Suitable nesting habitat can be extremely variable, and ranges from high energy ocean beaches to tiny pocket beaches only a few meters in width.

Major threats to all sea turtle species include loss or degradation of nesting habitat from coastal development and beach armoring; disorientation or misorientation of hatchlings and females by artificial lighting; poaching; disease; commercial trawling, longline and gill net fisheries; and illegal trade, particularly in hawksbill products.

Habitat degradation associated with the project development (lighting, boardwalk construction, increased beach use by residents, use of recreational beach gear at the beach, beach cleaning operations, among others) may result in death or injury of sea turtle hatchlings from either sea turtle species, incidental to the carrying out of these otherwise lawful activities. Section 9 of the Act, and implementing regulations, prohibits taking nests of leatherback sea turtle and hawksbill sea turtle. Taking, in part, is defined as an activity that kills, injures, harms, or harasses a listed endangered or threatened species. Section 10(a)(1)(B) of the Act provides an exemption, under certain circumstances, to the section 9 prohibition if the taking is incidental to, and not the purpose of, otherwise lawful activities.

Beach surveys at Tortola Beach indicate that both sea turtle species use this beach for nesting. In the last 15 years, a total of 24 sea turtle nesting activities (3 for hawksbills and 21 for leatherbacks) have been reported at the Tortola Beach. Tortola Beach is a small pocket beach that measures approximately 90 meters long by 15 meters wide. This beach is located in front of the proposed 45-lot development. Three of the lots border the beach area of Tortola.

The HCP describes measures the Applicant will take to minimize and mitigate such taking resulting from the Project. To minimize impacts to listed species from the proposed project, the Applicant will conduct the following: (1) Donate/transfer to the Puerto Rico Department of Natural and Environmental Resources (DNER) a 10 meter litoral zone (comprising 0.9391 cuerda or 0.91 acre) for additional setback from the maritime zone determined by this agency, along the beach front of the property; (2) a setback of 120 feet from the maritime zone will be left on lots 26, 27, and 29, the only three lots with beachfront property; (3) establish a “central valley” conservation easement on 5.71 cuerdas (5.54 acres) to protect natural forests; (4) no construction activities such as beach armoring or beach nourishment, no mechanical beach clearing, no vehicle traffic or animals will be allowed on the beach and no beach vegetation will be removed or trimmed on the beach; (5) pedestrian traffic to the beach from the property and from the beach to the property will be directed to only one boardwalk across the litoral zone and sand dune area; (6) a low fence will be erected at the end of the maritime zone (where sand turns into hard soil) to control pedestrian access and stray animals; (7) no artificial lighting will be installed on the beach and the beach will be closed to residents from the property during evening hours; (8) no recreation equipment such as lounge chairs, toys, kayaks will be allowed to remain on the beach after sunset and no boating activities, no camping or fires will be allowed on the beach; (9) each lot will have a site-specific residence location and no additional land clearing will be allowed on the lot; (10) all houses will be designed and remain single family units with a maximum size residence permitted of 2,700 square feet and have a maximum height of 18 feet; (11) a deed restriction will be included in each lot to require a lighting plan to address impacts to sea turtles on Tortola Beach and periodic lighting surveys will be conducted and corrective measures will be required; (12) no street lighting on the roadways within the development will be installed, roads will be closed to the general public during evening hours to minimize vehicular lighting, and vehicular traffic is routed one way to minimize headlight glare; and (13) a deed restriction will require that each owner develop and implement an erosion control plan to reduce potential impacts to nesting habitat by eroded materials.

To mitigate for the nests to be taken, the applicant will provide the following: (1) Provide educational materials regarding sea turtles to all owners and construct an information display board at the entrance of the boardwalk; (2) will encourage beach cleaning activities among the owners; (3) will provide trash containers for trash disposal; (4) turtle nesting activities will be reported, marked off-limit and protected until DNER personnel work the nest, and (5) will recruit and facilitate volunteers for sea turtle conservation projects.

As earlier stated, the Service has determined that the HCP qualifies as a Categorically-Excluded, “low-effect” HCP as defined by Service's Habitat Conservation Planning Handbook (November 1996). Low-effect HCPs are those involving: (1) Minor or negligible effects on federally listed and candidate species and their habitats, and (2) minor or negligible effects on other environmental values or resources. The Applicant's HCP qualifies for the following reasons:

1. Approval of the HCP would result in minor or negligible effects on the leatherback sea turtle and hawksbill sea turtle, and their nesting habitats. The Service does not anticipate significant direct or cumulative effects on these species resulting from the construction of the Project.

2. Approval of the HCP would not have adverse effect on known geographic, historic or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the HCP would not establish a precedent for future action or represent a decision in principle about future actions with potentially significant environmental effects.

The Service has therefore determined that approval of the HCP qualifies as a categorical exclusion under NEPA, as provided by the Department of the Interior Manual (516 DM 2, Appendix 1 and 516 DM 6, Appendix 1). No further NEPA determination will therefore be prepared.

The Service will evaluate the HCP and comments submitted thereon to determine whether the application meets the requirements of section 10(a) of the Act. If it is determined that those requirements are met, an ITP will be issued for the incidental take of hatchlings from two nests of the leatherback sea turtle or hawksbill sea turtle during a period of 12 years. The Service will also evaluate whether the issuance of a section 10(a)(1)(B) ITP complies with section 7 of the Act by conducting an intra-Service section 7 consultation. The results of the consultation, in combination with the above findings, will be used in the final analysis to determine whether or not to issue the ITP.

Dated: May 22, 2000.
H. Dale Hall,
Acting Regional Director.

[FR Doc. 00-13388 Filed 5-26-00; 8:45 am]

BILLING CODE 4310-55-P